ENVIRONMENTAL PROTECTION AGENCY

40 CFR Part 271

[FRL-6885-5]

Utah: Final Authorization of State Hazardous Waste Management Program Revision

AGENCY: Environmental Protection Agency (EPA).

ACTION: Immediate final rule.

SUMMARY: Utah has applied to EPA for Final authorization of the changes to its hazardous waste program under the Resource Conservation and Recovery Act (RCRA). EPA has determined that these changes satisfy all requirements needed to qualify for Final authorization, and is authorizing the State's changes through this immediate final action. EPA is publishing this rule to authorize the changes without a prior proposal because we believe this action is not controversial. Unless we get written comments which oppose this authorization during the comment period, the decision to authorize Utah's changes to their hazardous waste program will take effect. If we get comments that oppose this action, we will publish a document in the Federal Register withdrawing this rule before it takes effect and a separate document in the proposed rules section of this Federal Register will serve as a proposal to authorize the changes.

DATES: This Final authorization will become effective on January 16, 2001 unless EPA receives adverse written comment by November 30, 2000. If EPA receives such comment, it will publish a timely withdrawal of this immediate final rule in the Federal Register and inform the public that this authorization will not take effect.

ADDRESSES: Copies of the Utah program revision applications and the materials which EPA used in evaluating the revisions are available for inspection and copying at the following locations: EPA Region VIII Library, from Noon to 4 p.m., 999 18th Street, Suite 500, Denver, Colorado 80202-2466, contact: Environmental Information Service Center (EISC), phone number: (303) 312-6312; or Utah Department of Environmental Quality (UDEQ), from 8 a.m. to 5 p.m., 288 North 1460 West, Salt Lake City, Utah 84114-4880, contact: Susan Toronto, phone number: (801) 538-6776. Send written comments to Kris Shurr, 8P-HW, U.S. EPA, Region VIII, 999 18th Street, Suite 500, Denver, Colorado 80202-2466, phone number: (303) 312-6139.

FOR FURTHER INFORMATION CONTACT: Kris Shurr, 8P-HW, U.S. EPA, Region VIII, 999 18th Street, Suite 500, Denver, Colorado 80202-2466, phone number: (303) 312-6139.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that Utah's application to revise its authorized program meets all of the statutory and regulatory requirements established by RCRA. Therefore, we grant Utah Final authorization to operate its hazardous waste program with the changes described in the authorization application. Utah has responsibility for permitting Treatment, Storage, and Disposal Facilities (TSDFs) within its borders, except in Indian Country, and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Utah, including issuing permits, until the State is granted authorization to do so.

C. What Is the Effect of Today's Authorization Decision?

This decision means that a facility in Utah subject to RCRA will now have to comply with the authorized State requirements instead of the equivalent Federal requirements in order to comply with RCRA. Utah has enforcement responsibilities under its State hazardous waste program for violations of such program, but EPA retains its authority under RCRA sections 3007, 3008, 3013, and 7003, which include, among others, authority to:

do inspections, and require monitoring, tests, analyses or reports;

enforce RCRA requirements and suspend or revoke permits;

and take enforcement actions regardless of whether the State has taken its own actions.

This action does not impose additional requirements on the regulated community because the regulations for which Utah is being authorized by today's action are already effective and are not changed by today's action.

D. Why Wasn't There a Proposed Rule Before Today's Rule?

EPA did not publish a proposal before today's rule because we view this as a routine program change. We are providing an opportunity for the public to comment now. In addition to this rule, in the proposed rules section of today's Federal Register we are publishing a separate document that proposes to authorize the State program changes.

E. What Happens if EPA Receives Comments That Oppose This Action?

If EPA receives comments that oppose this authorization, we will withdraw this rule by publishing a document in the Federal Register before the rule becomes effective. EPA will base any further decision on the authorization of the State program changes on the proposal mentioned in the previous paragraph. We will then address all public comments in a later final rule. You may not have another opportunity to comment. If you want to comment on this authorization, you must do so at this time.

If we receive comments that oppose only the authorization of a particular change to the State hazardous waste program, we will withdraw that part of this rule but the authorization of the program changes that the comments do not oppose will become effective on the date specified above. The Federal Register withdrawal document will specify which part of the authorization will become effective, and which part is being withdrawn.

F. What Has Utah Previously Been Authorized for?

Utah initially received Final Authorization on October 10, 1984, effective October 24, 1984 (49 FR 39683) to implement its base hazardous waste management program. Utah received authorization for revisions to its program on February 21, 1989, effective March 7, 1989 ( 54 FR 7417); May 23, 1991 (56 FR 23648) and August 6, 1991 (56 FR 37291, both effective July 22, 1991; May 15, 1992, effective July 14, 1992 (57 FR 20770); February 12, 1993 (58 FR 8232) and May 5, 1993 (58 FR 26689), both effective April 13, 1993; October 14, 1994, effective December 13, 1994 (59 FR 52084); May 20, 1997 (62 FR 27501), effective July 21, 1997; and January 13, 1999, effective March 15, 1999 (64 FR 02144).

G. What Changes Are We Authorizing With Today's Action?

On April 4, 2000, Utah submitted a final complete program revision application, seeking authorization of their changes in accordance with 40 CFR 271.21. We now make an immediate final decision, subject to receipt of written comments that oppose this action, that Utah's hazardous waste program revision satisfies all of the requirements necessary to qualify for Final authorization. Therefore, we grant Utah Final authorization for the following program changes:

Federal citation | State analog ¹
Removal of Legally Obsolete Rules [60 FR 33912, 06/29/95) (Checklist 144) | R315-1-1; R315-2-10; R315-3-3; R315-14-7.
Liquids in Landfills III [60 FR 35703, 07/11/95] (Checklist 145) | R315-7-21; R315-8-14.
RCRA Expanded Public Participation [60 FR 63417, 12/11/95] (Checklist 148) | R315-1-1; R315-3-5; R315-3-10; R315-3-19; R315-3-20; R315-3-37; R315-3-38.
Amendments to the Definition of Solid Waste; Amendment II [61 FR 13103, 03/26/96] (Checklist 150) | R315-2-4.
Land Disposal Restrictions Phase III-Decharacterized Wastewaters, Carbamate Wastes, & Spent Potliners [61 FR 15566, 08/08/96, as amended thru 62 FR 07502, 02/09/97] (Checklists 151 thru 151.6) | R315-13-1.
Imports & Exports of Hazardous Waste: Implementation of OECD Council Decision [61 FR 16290, 04/12/96] (Checklist 152) | R315-2-6; R315-4-3; R315-4-4; R315-5-1; R315-5-13; R315-5-15; R315-6-1; R315-7-9.3; R315-7-12.2; R315-8-2.3; R315-14-5; R315-16-2.11; R315-16-3.11; R315-16-4.7; R315-16-6.
Conditionally Exempt Small Quantity Generator Disposal Options Under Subtitle D [61 FR 34252, 07/01/96] (Checklist 153) | R315-2-5.
Consolidated Organic Air Emission Standards for Tanks, Surface Impoundments, & Containers [59 FR 62896, 12/06/94, as amended thru 61 FR 59997, 11/25/96] (Checklists 154 thru 154.6) | R307-210-1; R315-1-2; R315-2-6; R315-3-5; R315-3-6; R315-3-13; R315-5-10; R315-7-8; R315-7-9; R315-7-12; R315-7-16; R315-7-17; R315-7-18; R315-7-26; R315-7-27; R315-7-30; R315-8-2; R315-8-5; R315-8-9; R315-8-10; R315-8-11; R315-8-16; R315-8-17; R315-8-18; R315-8-22; R315-50-17.
Land Disposal Restrictions Phase III—Emergency Extension of the K088 Capacity Variance [62 FR 01992, 01/14/97] (Checklist 155) | R315-13-1.
Land Disposal Restrictions Phase IV—Treatment Standards for Wood Preserving Wastes, Paperwork Reduction & Streamlining, Exemptions from RCRA for Certain Processed Materials; & Miscellaneous Hazardous Waste Provisions [62 FR 25998, 05/12/97] (Checklist 157) | R315-1-1; R315-2-2; R315-2-4; R315-2-6; R315-13-1.
Testing & Monitoring Activities Amendment III [62 FR 32452, 06/13/97] (Checklist 158) | R315-1-2; R315-7-26; R315-7-27; R315-8-17; R315-8-18; R315-14-7; R315-50-14.
Conformance with the Carbamate Vacature [62 FR 01992, 05/29/97] (Checklist 159) | R315-2-10; R315-2-11; R315-13-1; R315-50-9; R315-50-10.
Land Disposal Restrictions Phase III—Emergency Extension of the K088 National Capacity Variance, Amendment [60 FR 37694, 07/14/97] (Checklist 160) | R315-13-1.
Emergency Revision of the Carbamate Land Disposal Restrictions [62 FR 45568, 08/28/97] (Checklist 161) | R315-13-1.
¹ Utah Administrative Code, revised December 15, 1999.

H. Where Are the Revised State Rules Different From the Federal Rules?

We consider the following State requirements to be more stringent than the Federal requirements: R315-8-2.3(a)(2), R315-4-4(e), R315-7-9.3(a)(2), and R315-7-12.2(d) because the State requires that notification also be given to the Utah Division of Solid and Hazardous Waste, as well as, the Federal entities.

These requirements are part of Utah's authorized program and are Federally enforceable.

Utah's rules, promulgated pursuant to this application, contain several errors which may create confusion within the regulated community. EPA has determined that the errors associated with the issues do not pose implementation or enforcement problems. Therefore, EPA will proceed to approve this application with the understanding that the State will correct these items during its next rulemaking. These errors are at the following citation within the Utah Administrative Code, revised December 15, 1999: R315-3-20(d).

I. Who Handles Permits After the Authorization Takes Effect?

Utah will issue permits for all the provisions for which it is authorized and will administer the permits it issues. EPA will continue to administer any RCRA hazardous waste permits or portions of permits which we issued prior to the effective date of this authorization until Utah has equivalent instruments in place. We will not issue any new permits or new portions of permits for the provisions listed in the Table above after the effective date of this authorization. EPA has previously suspended issuance of permits for other provisions on October 24, 1984, the effective date of Utah's Final Authorization for the RCRA base program. EPA will continue to implement and issue permits for HSWA requirements for which Utah is not yet authorized.

J. How Does Today's Action Affect Indian Country (18 U.S.C. 1151) in Utah?

This program revision does not extend to “Indian Country” as defined in 18 U.S.C. 1151. Indian Country includes lands within the exterior boundaries of the following Indian reservations located within or abutting the State of Utah:

1. Goshute Indian Reservation

2. Navajo Indian Reservation

3. Northwestern Band of Shoshoni Nation of Utah (Washakie) Indian Reservation

4. Paiute Indian Tribe of Utah Indian Reservation

5. Skull Valley Band of Goshute Indians of Utah Indian Reservation

6. Uintah and Ouray Indian Reservation (see below)

7. Ute Mountain Indian Reservation

With respect to the Uintah & Ouray Indian Reservation, Federal courts have determined that certain lands within the exterior boundaries of the Reservation do not constitute Indian Country. This State program revision approval will extend to those lands which the courts have determined are not Indian Country.

In excluding Indian Country from the scope of this program revision, EPA is not making a determination that the State either has adequate jurisdiction or lacks jurisdiction over sources in Indian Country. Should the State of Utah choose to seek program authorization within Indian Country, it may do so without prejudice. Before EPA would approve the State's program for any portion of Indian Country, EPA would have to be satisfied that the State has authority, either pursuant to explicit Congressional authorization or applicable principles of Federal Indian law, to enforce its laws against existing and potential pollution sources within any geographical area for which it seeks program approval and that such approval would constitute sound administrative practice.

K. What Is Codification and Is EPA Codifying Utah's Hazardous Waste Program as Authorized in This Rule?

Codification is the process of placing the State's statutes and regulations that comprise the State's authorized hazardous waste program into the Code of Federal Regulations. We do this by referencing the authorized State rules in 40 CFR part 272. We reserve the amendment of 40 CFR part 272, subpart TT for the codification of Utah's program until a later date.

L. Administrative Requirements

The Office of Management and Budget has exempted this action from the requirements of Executive Order 12866 (58 FR 51735, October 4, 1993), and therefore this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (Public Law 104-4). For the same reason, this action also does not significantly or uniquely affect the communities of Tribal governments, as specified by Executive Order 13084 (63 FR 27655, May 10, 1998). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective January 16, 2001.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006 and 7004(b) of the Solid Waste Disposal Act as amended 42 U.S.C. 6912(a), 6926, 6974(b).

Dated: October 5, 2000.
William P. Yellowtail,
Regional Administrator, Region VIII.

[FR Doc. 00-26503 Filed 10-13-00; 8:45 am]

BILLING CODE 6560-50-P